DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2420; Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On October 3, 2022, OFAC determined that the property and interests in property subject to U.S. jurisdiction of the following persons are blocked under the relevant sanctions authority listed below.

Individuals

1. NOVALIC, Fadil, Bosnia and Herzegovina; DOB 25 Sep 1959; POB Gradacac, Bosnia and Herzegovina; nationality Bosnia and Herzegovina; citizen Bosnia and Herzegovina; Gender Male; Prime Minister of the Federation of Bosnia and Herzegovina (individual) [BALKANS-EO14033].

Designated pursuant to section 1(a)(ii) of Executive Order 14033 of June 8, 2021, “Blocking Property and Suspending Entry into the United States of Certain Persons Contributing to the Destabilizing Situation in the Western Balkans,” 86 FR 31079 (June 10, 2021) (E.O. 14033) for being responsible for or complicit in, or having directly or indirectly engaged in, actions or policies that undermine democratic processes or institutions in the Western Balkans.

2. STANKOVIC, Slobodan, Bosnia and Herzegovina; DOB 01 Jan 1949; POB Banja Luka, Bosnia and Herzegovina; nationality Bosnia and Herzegovina; Gender Male (individual) [BALKANS-EO14033] (Linked To: DODIK, Milorad).

Designated pursuant to section 1(a)(vi) of E.O. 14033 for having materially assisted, sponsored, or provided financial, material, or technological support for, or goods or services to or in support of, Milorad Dodik, a person whose property and interests in property are blocked pursuant to E.O. 14033.

Entity

1. INTEGRAL INZENJERING A.D. LAKTASI (a.k.a. INTEGRAL INZENJERING A.D. INZENJERING-PROMET-EXPORT-IMPORT, LAKTASI; a.k.a. INTEGRAL INZENJERING PLC), Omladinska ulica 44, Laktasi 78250, Bosnia and Herzegovina; Organization Established Date 20 Nov 1989; Tax ID No. 440114505005 (Bosnia and Herzegovina); Registration Number 1-91-00 (Bosnia and Herzegovina) [BALKANS-EO14033] (Linked To: STANKOVIC, Slobodan).

Designated pursuant to section 1(a)(vii) of E.O. 14033 for being owned or controlled by, or having acted or purported to act for or on behalf of, directly or indirectly, Slobodan Stankovic, a person whose property and interests in property are blocked pursuant to E.O. 14033.

Dated: October 3, 2022.
Andrea M. Gacki,
Director, Office of Foreign Assets Control, U.S. Department of the Treasury.

[FR Doc. 2022-21758 Filed 10-5-22; 8:45 am]

BILLING CODE 4810-AL-P